DEPARTMENT OF COMMERCE

National Oceanic and Atmospheric Administration

RIN 0648-XE313

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday and Thursday, December 1-3, 2015, starting at 9 a.m. on December 1, and at 8:30 a.m. on both December 2-3.

ADDRESSES: The meeting will be held at the Holiday Inn by the Bay, 88 Spring Street, Portland, ME 04101; telephone: (207) 775.2311, fax: (207) 761.8224, or online at www.innbythebay.com/.

Council address: New England Fishery Management Council, 50 Water Street, Mill 2, Newburyport, MA 01950; telephone 978-465-0492.

FOR FURTHER INFORMATION CONTACT: Thomas A. Nies, Executive Director, New England Fishery Management Council; telephone: (978) 465-0492, ext. 113.

SUPPLEMENTARY INFORMATION:

Agenda

Tuesday, December 1, 2015

After introductions and any announcements, the Council meeting will open with brief reports from the NEFMC Chairman and Executive Director, the NOAA Regional Administrator for the Greater Atlantic Region, Northeast Fisheries Science Center and Mid-Atlantic Fishery Management Council liaisons, NOAA General Counsel and Office of Law Enforcement representatives, and staff from the Atlantic States Marine Fisheries Commission, the U.S Coast Guard, and the Northeast Regional Ocean Council. These reports will be followed by a Mid-Atlantic Fishery Management Council (MAFMC) staff overview on proposed 2016-17 spiny dogfish fishery specifications. Because it is a joint plan with the MAFMC, the NEFMC is scheduled to vote on the specifications at this meeting.

Following a lunch break, the public will have an opportunity to make brief comments on items that are relevant to Council business but otherwise not listed on the published agenda. The Northeast Fisheries Science Center director will then provide the Council with a briefing on the Center's Strategic Plan. The Scientific and Statistical Committee (SSC) will present its recommendations for an overfishing limit (OFL) and an acceptable biological catch (ABC) for the following: Atlantic sea scallops for fishing years 2016-17; red hake for 2016-17; and most of the 20 groundfish stocks in the Northeast Multispecies Fishery Management Plan (FMP) for fishing years 2016-18. The Council also will receive the SSC's comments on NOAA's Ecosystem-based Fishery Management (EBFM) Policy. The EBFM Committee will present a progress report on the development of a pilot EBFM Plan and ask for approval of its draft comments on the agency's EBFM policy.

Wednesday, December 2, 2015

Wednesday's session will begin with a report from the Council's Skate Committee. It will recommend final action (approval) of Framework Adjustment 3 to the Northeast Skate Complex Fishery Management Plan (FMP). It will contain next year's fishery specifications, in addition to measures that address possession limits and possible modifications to the seasonal management of the skate wing fishery. This will be followed by an update on NOAA Fisheries' activities concerning a petition to list thorny skates as threatened or endangered. Next, the Greater Atlantic Regional Fisheries Office staff will brief the Council on its Recreational Fishery Implementation Plan and solicit public comments. During the Groundfish Committee's report to follow, the Council will consider recommendations for recreational management measures for stocks of Gulf of Maine haddock and Gulf of Maine cod for fishing year 2016. They will be further considered by NOAA Fisheries and announced prior to the beginning of the upcoming fishing year. The Council also plans to approve Framework 55 to the Northeast Multispecies FMP, including specifications for its groundfish stocks for fishing years 2016-18, plus three U.S./Canada stocks for 2016 only. At-sea monitoring alternatives and other management measures are being proposed for inclusion in the framework.

Thursday, December 3, 2015

The final meeting day will begin with consideration and approval of the NEFMC's management priorities for 2016, followed by a briefing about the collection of fisheries data through the Atlantic Coastal Cooperative Statistics Program, and a report by the Council's Research Steering Committee regarding work on sea scallops and monkfish. The Scallop Committee will ask the Council to approve final action on Amendment 19 to the Sea Scallop FMP. The action is intended to expedite the implementation date of the sea scallop fishery specifications each year. Final approval is also expected on Framework Adjustment 29 to the Scallop FMP, which includes fishing year 2016 fishery specifications and default measures for fishing year 2017.

Although other non-emergency issues not contained in this agenda may come before this Council for discussion, those issues may not be the subject of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: November 9, 2015.
Tracey L. Thompson,
Acting Deputy Director, Office of Sustainable Fisheries, National Marine Fisheries Service.

[FR Doc. 2015-28817 Filed 11-12-15; 8:45 am]

BILLING CODE 3510-22-P